NUCLEAR REGULATORY COMMISSION

[Docket Nos. 50-003 and 50-247]

Consolidated Edison Company of New York, Inc.; Indian Point Nuclear Generating Unit Nos. 1 and 2; Notice of Consideration of Approval of Transfer of Facility Operating Licenses and Conforming Amendments, and Opportunity for a Hearing

The U.S. Nuclear Regulatory Commission (the Commission) is considering the issuance of an order under 10 CFR 50.80 approving the transfer of Facility Provisional Operating License No. DPR-5, for the Indian Point Nuclear Generating Unit No. 1 (IP1), and Facility Operating License No. DPR-26, for Indian Point Nuclear Generating Unit No. 2 (IP2), both currently held by the Consolidated Edison Company of New York, Inc. (Con Edison), as owner of IP1 and owner and operator of IP2. The transfer would be to Entergy Nuclear Indian Point 2, LLC (Entergy Nuclear IP2), the proposed owner of IP1 and IP2, and to Entergy Nuclear Operations, Inc. (ENO), the proposed entity to maintain IP1 and operate IP2. The Commission is also considering amending the licenses for administrative purposes to reflect the proposed transfers.

According to application for approval filed by Con Edison, Entergy Nuclear IP2, and ENO, Entergy Nuclear IP2 would assume title to both facilities following approval of the proposed license transfers, and ENO would become responsible for the maintenance of IP1 and operation and maintenance of IP2. Con Edison will transfer decommissioning funds for both plants to Entergy Nuclear IP2 at the close of the sale. All employees within Con Edison's Nuclear Generation Department, and certain other employees supporting the Nuclear Generation Department, will become employees of ENO. No physical changes to either facilities nor operational changes are being proposed in the application.

Entergy Nuclear IP2, a Delaware limited liability company, is an indirect wholly owned subsidiary of Entergy Corporation, and an indirect wholly owned subsidiary of Entergy Nuclear Holding Company #3.

ENO, a Delaware corporation, is an indirect wholly owned subsidiary of Entergy Corporation, and a direct wholly owned subsidiary of Entergy Nuclear Holding Company #2.

The proposed amendments would replace references to Con Edison in the license with references to Entergy Nuclear IP2 and/or ENO, as appropriate, and make other necessary administrative changes to reflect the proposed transfer.

Pursuant to 10 CFR 50.80, no license, or any right thereunder, shall be transferred, directly or indirectly, through transfer of control of the license, unless the Commission shall give its consent in writing. The Commission will approve an application for the transfer of a license, if the Commission determines that the proposed transferee is qualified to hold the license, and that the transfer is otherwise consistent with applicable provisions of law, regulations, and orders issued by the Commission pursuant thereto.

Before issuance of the proposed conforming license amendments, the Commission will have made findings required by the Atomic Energy Act of 1954, as amended (the Act), and the Commission's regulations.

As provided in 10 CFR 2.1315, unless otherwise determined by the Commission with regard to a specific application, the Commission has determined that any amendment to the license of a utilization facility which does no more than conform the license to reflect the transfer action involves no significant hazards consideration. No contrary determination has been made with respect to this specific license amendment application. In light of the generic determination reflected in 10 CFR 2.1315, no public comments with respect to significant hazards considerations are being solicited, notwithstanding the general comment procedures contained in 10 CFR 50.91.

The filing of requests for hearing and petitions for leave to intervene, and written comments with regard to the license transfer application, are discussed below.

By February 20, 2001, any person whose interest may be affected by the Commission's action on the application may request a hearing, and, if not the applicants, may petition for leave to intervene in a hearing proceeding on the Commission's action. Requests for a hearing and petitions for leave to intervene should be filed in accordance with the Commission's rules of practice set forth in subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon Douglas Levanway, Esq., Wise, Carter, Child and Caraway, P.O. Box 651, Jackson, MS 39205, Phone: 601-968-5524, Fax: 601-968-5519, E-mail: del@wisecarter.com; Brent Brandenburg, Esq., Asst. General Counsel, Consolidated Edison Company of New York, Inc., 4 Irving Place, Room 1820, New York, NY 10003, Phone: 212-460-4333, Fax: 212-260-8627, E-mail: brandenburgb@coned.com; the General Counsel, U.S. Nuclear Regulatory Commission, Washington, DC 20555 (E-mail address for filings regarding license transfer cases only: OGCLT@NRC.GOV); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by February 28, 2001, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application and cover letter dated December 12, 2000, available for public inspection at the Commission's Public Document Room, located at One White Flint North, 11555 Rockville Pike (first floor), Rockville, Maryland, and accessible electronically through the ADAMS Public Electronic Reading Room link at the NRC Web site (http://www.nrc.gov).

Dated at Rockville, Maryland this 23rd day of January 2001.
For the Nuclear Regulatory Commission.
Patrick D. Milano,
Senior Project Manager, Section 1, Project Directorate 1, Division of Licensing Project Management, Office of Nuclear Reactor Regulation.

[FR Doc. 01-2480 Filed 1-26-01; 8:45 am]

BILLING CODE 7590-01-P